DEPARTMENT OF COMMERCE

National Oceanic and Atmospheric Administration

50 CFR Part 679

[Docket No. 071106671-8010-02]

RIN 0648-XI38

Fisheries of the Economic Exclusive Zone Off Alaska; Shallow-Water Species Fishery by Catcher Processors in the Gulf of Alaska

AGENCY: National Marine Fisheries Service (NMFS), National Oceanic and Atmospheric Administration (NOAA), Commerce.

ACTION: Temporary rule; closure.

SUMMARY: NMFS is prohibiting directed fishing for species that comprise the shallow-water species fishery for catcher processors subject to sideboard limits established under the Central Gulf of Alaska (GOA) Rockfish Program in the GOA. This action is necessary because the 2008 Pacific halibut prohibited species catch (PSC) sideboard limit specified for the shallow-water species fishery for catcher processors subject to sideboard limits established under the Central GOA Rockfish Program in the GOA is insufficient to support directed fishing for the shallow-water species fisheries.

DATES: Effective 1200 hrs, Alaska local time (A.l.t.), July 1, 2008, through 1200 hrs, A.l.t., July 31, 2008.

FOR FURTHER INFORMATION CONTACT: Jennifer Hogan, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. processors in accordance with the FMP appear at subpart H of 50 CFR part 600 and 50 CFR part 679.

The 2008 Pacific halibut PSC sideboard limit specified for the shallow-water species fishery for catcher processors subject to sideboard limits established under the Central GOA Rockfish Program in the GOA is 11 metric tons as established by § 679.82(d), the 2008 and 2009 harvest specifications for groundfish of the GOA (73 FR 10562, February 27, 2008), for the period 1200 hrs, A.l.t., July 1, 2008, through 1200 hrs, A.l.t., July 31, 2008.

In accordance with § 679.82(d)(9)(i)(B), the Administrator, Alaska Region, NMFS, has determined that the 2008 Pacific halibut PSC sideboard limit specified for the shallow-water species fishery for catcher processors subject to sideboard limits established under the Central GOA Rockfish Program in the GOA is insufficient to support directed fishing for the shallow-water species fisheries. Consequently, in accordance with § 679.82(d)(9)(ii)(A), NMFS is prohibiting directed fishing for species that comprise the shallow-water species fishery for catcher processors subject to sideboard limits established under the Central GOA Rockfish Program in the GOA. The species and species groups that comprise the shallow-water species fishery for the sideboard limit are shallow-water flatfish and flathead sole.

After the effective date of this closure the maximum retainable amounts at § 679.20(e) and (f) apply at any time during a trip.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the closure of the shallow-water species fishery for catcher processors subject to sideboard limits established under the Central GOA Rockfish Program in the GOA. NMFS was unable to publish a notice providing time for public comment because the most recent, relevant data only became available as of June 4, 2008.

The AA also finds good cause to waive the 30-day delay in the effective date of this action under 5 U.S.C. 553(d)(3). This finding is based upon the reasons provided above for waiver of prior notice and opportunity for public comment.

This action is required by § 679.82 and is exempt from review under Executive Order 12866.

Authority: 16 U.S.C. 1801 et seq.

Dated: June 6, 2008.
Emily H. Menashes
Acting Director, Office of Sustainable Fisheries, National Marine Fisheries Service.

[FR Doc. E8-13237 Filed 6-11-08; 8:45 am]

BILLING CODE 3510-22-S